ENVIRONMENTAL PROTECTION AGENCY

[FRL-7964-8]

Reissuance of the NPDES General Permit for the Territorial Seas Off Texas (TXG260000)

AGENCY: Environmental Protection Agency (EPA).

ACTION: Notice of Final NPDES General Permit Reissuance.

SUMMARY: The Regional Administrator of Region 6 today issues the final National Pollutant Discharge Elimination System (NPDES) “General Permit for the Territorial Seas off Texas” (No. TXG260000) for discharges from existing and new dischargers and New Sources in the Offshore Subcategory of the Oil and Gas Extraction Point Source Category (40 CFR part 435, subpart A) as authorized by section 402 of the Clean Water Act, 33 U.S.C. 1342. The permit supercedes the previous general permit (TX0085651) issued on September 15, 1983 and published in the Federal Register at 48 FR 41494. That permit authorized discharges from exploration, development, and production facilities located in and discharging to the territorial seas off Texas. Through this reissuance, EPA includes current technology and water quality based effluent limitations consistent with National Effluent Limitations Guidelines, Federal Ocean Discharge Criteria, and State Water Quality Standards.

A copy of the Region's responses to comments and the final permit may be obtained by mail from the address listed below or from the EPA Region 6 Internet site: http://www.epa.gov/earth1r6/6wq/6wq.htm.

A Record of Decision which completes the Environmental Assessment process required by the National Environmental Policy Act is also available at the above Internet address or by mail from the address listed below.

FOR FURTHER INFORMATION CONTACT: Ms. Diane Smith, EPA Region 6, 1445 Ross Avenue, Dallas, Texas 75202, Telephone: (214) 665-7191, or via e-mail to the following address: smith.diane@epa.gov.

SUPPLEMENTARY INFORMATION:

Regulated Entities. Entities potentially regulated by this action are those which operate offshore oil and gas extraction facilities located in the territorial seas off Texas.

Category | Examples of regulated entities
Industry | Offshore Oil and Gas Extraction Platforms.

This table lists the types of entities that EPA is now aware could potentially be regulated by this action. Other types of entities not listed in the table could also be regulated. To determine whether your (facility, company, business, organization, etc.) is regulated by this action, you should carefully examine the applicability criteria in part I. section A.1. of the general permit. If you have questions regarding the applicability of this action to a particular entity, consult the person listed in the preceding FOR FURTHER INFORMATION CONTACT section.

Pursuant to section 402 of the Clean Water Act (CWA), 33 U.S.C. 1342, EPA proposed and solicited comments on NPDES general permit TXG260000 at 66 FR 29948 (November 17, 2003). Notice of this proposed permit was also published in the Houston Chronicle on November 20, 2003. The comment period closed on January 16, 2004.

Region 6 received comments from the Offshore Operators Committee, the International Association of Drilling Contractors, and the Railroad Commission of Texas.

EPA Region 6 has considered all comments received. In response to those comments the following changes were made to the proposed permit. Ambient density stratification data were examined and the critical dilutions required for the produced water toxicity limits were recalculated. The proposed 48-hour acute toxicity limit was replaced with a seven day chronic toxicity limit in the final permit. An exemption for toxicity caused by total dissolved solids was included for the 24-hour acute toxicity limits. The permit allows collection of a single grab sample for toxicity testing. The State lease and well numbers are required to be reported on the notice of intent to be covered. Unmeasurable de minimis discharges of drilling fluids such as wind blown splatters from pipe racks are authorized. A number of minor typographical changes and clarifications were also made to the permit's language.

Dated: August 26, 2005.
Miguel I. Flores,
Director, Water Quality Protection Division, Region 6.

[FR Doc. 05-17614 Filed 9-2-05; 8:45 am]

BILLING CODE 6560-50-P